NATIONAL AERONAUTICS AND SPACE ADMINISTRATION

[Notice (04-068)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: May 18, 2004.

FOR FURTHER INFORMATION CONTACT: Linda Blackburn, Patent Counsel, Langley Research Center, Mail Code 212, Hampton, VA 23681-2199; telephone (757) 864-9260; fax (757) 864-9190.

NASA Case No. LAR-16324-2: Self-Activating System and Method for Alerting When an Object or a Person Is Left Unattended;

NASA Case No. LAR-16406-1-CU: Ultrasonic Apparatus and Method To Assess Compartment Syndrome;

NASA Case No. LAR 16606-1: Catalytic Oxidation System.

Dated: May 12, 2004.
Keith T. Sefton,
Chief of Staff, Office of the General Counsel.

[FR Doc. 04-11176 Filed 5-17-04; 8:45 am]

BILLING CODE 7510-01-P